DEPARTMENT OF JUSTICE

Federal Bureau of Investigation

[OMB Number 1110-NEW]

Agency Information Collection Activities: Proposed Collection, Comments Requested

ACTION: 30-day Notice of Information Collection Under Review: Applicant Questionnaire: Race, National Origin, Gender, and Disability Demographics.

The Department of Justice, Federal Bureau of Investigation, Human Resources Division will be submitting the following information collection request to the Office of Management and Budget (OMB) for review and clearance in accordance with established review procedures of the Paperwork Reduction Act of 1995 (44 U.S.C. 3501 et seq). The proposed information collection is published to obtain comments from the public and other government agencies. The proposed information collection was previously published in the Federal Register Volume 72, Number 241, page 71436, on December 17, 2007, allowing for a 60 day comment period.

The purpose of this notice is to allow for an additional 30 days for public comment until March 28, 2008. This process is conducted in accordance with 5 CFR 1320.10. All comments and suggestions, or questions regarding additional information should be directed to Angela Graham, Human Resources Specialist, Human Resources Management Section (HRMS), Human Resources Division (HRD), Federal Bureau of Investigation, 935 Pennsylvania Ave., NW., Room GP-702B, Washington, DC 20636. Comments must be submitted on or before March 22, 2008. To view the proposed collection instrument with instructions on online, please visit the following link: (To view the proposed collection instrument with instructions on online, please visit the following link: http://www.fbi.gov/fbijobs_proposedcollection.htm. Written comments and suggestions from the public and affected agencies concerning the proposed collection of information are encouraged. Submit your comments to angela.graham@ic.fbi.gov.

Comments should address one or more of the following four points:

(1) Evaluate whether the proposed collection of information is necessary for the proper performance of the functions of the agency, including whether the information will have a practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Approval of new collection.

(2) The title of the form/collection: Applicant Questionnaire: Race, National Origin, Gender, and Disability Demographics

(3) The agency form number, if any, and the applicable component of the department sponsoring the collection: Form FD-3-873 (Demographic Information) Human Resources Division, Federal Bureau of Investigation, Department of Justice.

(4) Affected public who will be asked or required to respond, as well as a brief abstract: Any person applying registering and/or applying for a position at the Federal Bureau of Investigation.

Abstract: The Equal Employment Opportunity Commission Management Directive 715 (MD 715), requires agencies to maintain a system that: (1) Collects and maintains accurate information on race, national origin, gender and disability of an agency in accordance with 29 CFR paragraph 1614.601; (2) tracks applicant flow data, which identifies applicants by race, national origin, gender, and disability status and disposition of applications; and, (3) tracks recruitment activities to permit analyses of these efforts in any examination of potential barriers to equality of opportunity. Agencies must also “conduct an internal review and analysis of the effects of all current and proposed policies, practices, and conditions that directly or indirectly,” related to the employment of individuals with disabilities based on their race, national origin, gender and disabilities. However, an Agency may not conduct or sponsor, and a person is not required to, a collection of information, unless it displays a currently valid OMB control number. In order to comply with MD 715, the FBI is requesting clearance from OMB in accordance with established review procedures of the Paperwork Reduction Act of 1995. Once cleared for use, the form will be used to collect race, national origin, gender, and disability demographic information from applicants registering in the FBI's automated hiring system. All job applicants, whether internal or external, would be asked to complete, on a voluntary basis, an “Applicant Questionnaire: Race, National Origin, Gender, and Disability Demographics.” The FBI must collect and evaluate information and data necessary to make an informed assessment the extent to which the Agency is meeting its responsibility to provide employment opportunities for qualified applicants and employees with disabilities, especially those with target disabilities.

(5) An estimate of the total number of respondents and the amount of time estimated for an average respondent to respond: Total number of respondents: 609,246 Frequency of response: One time completion of questionnaire per respondent. Estimated time for average respondent to respond: 5 minutes.

(6) An estimate of the total public burden (in hours) associated with this collection: There are approximately 50,505 annual burden hours associated with this collection.

(7) An estimate of the total annual cost: None.

If additional information is required contact: Ms. Lynn Bryant, Department Clearance Officer, Justice Management Division, United States Department of Justice, Patrick Henry Building, Suite 1600, 601 D Street, NW., Washington, DC 20530.

Dated: February 21, 2008.
Lynn Bryant,
Department Clearance Officer, PRA, U.S. Department of Justice.

[FR Doc. E8-3684 Filed 2-26-08; 8:45 am]

BILLING CODE 4410-02-P